ENVIRONMENTAL PROTECTION AGENCY

[ER-FRL-9028-1]

Environmental Impact Statements; Notice of Availability

Responsible Agency: Office of Federal Activities, General Information (202) 564-7146 or http://www2.epa.gov/nepa.

Weekly receipt of Environmental Impact Statements (EISs) Filed 07/05/2016 Through 07/08/2016

Pursuant to 40 CFR 1506.9.

Notice

Section 309(a) of the Clean Air Act requires that EPA make public its comments on EISs issued by other Federal agencies. EPA's comment letters on EISs are available at: http://www.epa.gov/compliance/nepa/eisdata.html.

EIS No. 20160153, Final, Caltrans, CA, High Desert Corridor, Review Period Ends: 08/15/2016, Contact: Ron Kosinski 213-897-0703

EIS No. 20160154, Final, NPS, MA, Herring River Restoration Project, Review Period Ends: 08/15/2016, Contact: Mark Husbands 303-987-6965

EIS No. 20160155, Final, FTA, MN, Bottineau Light Rail Transit Metro Blue Line Extension, Review Period Ends: 08/15/2016, Contact: Maya Sarna 202-366-5811

EIS No. 20160156, Draft, FRA, TX, Texas-Oklahoma Passenger Rail Study Service-Level, Comment Period Ends: 08/29/2016, Contact: Melissa Hatcher 202-493-6075

EIS No. 20160157, Final, USN, WA, Land-Water Interface and Service Pier Extension at Naval Base Kitsap Bangor, Review Period Ends: 08/15/2016, Contact: Robin Senner 360-396-0029

EIS No. 20160158, Draft, MARAD, USCG, LA, Port Delfin LNG Project Deepwater Port Application, Comment Period Ends: 08/29/2016, Contact: Roddy C. Bachman 202-372-1451

The U.S. Coast Guard and the Maritime Administration are joint lead agencies for the above project.

EIS No. 20160159, Draft, FERC, OH, NEXUS Gas Transmission Project and Texas Eastern Appalachian Lease Project, Comment Period Ends: 08/29/2016, Contact: Joanne Wachholder 202-502-8056

EIS No. 20160160, Final, BR, CA, Mendota Pool Bypass and Reach 2B Improvements Project, Review Period Ends: 08/15/2016, Contact: Becky Victorine 916-978-4624

EIS No. 20160161, Final, USACE, WA, Puget Sound Nearshore Ecosystem Restoration, Review Period Ends: 08/15/2016, Contact: Nancy C. Gleason 206-764-6577

EIS No. 20160162, Final, USFS, MT, Telegraph Vegetation Project, Review Period Ends: 08/15/2016, Contact: Sharon Scott 406-495-3943

EIS No. 20160163, Final, DOE, LA, ADOPTION—Lake Charles Liquefaction Project, Contact: John Anderson 202-586-0521

The U.S. Department of Energy (DOE) has adopted the Federal Energy Regulatory Commission's Final EIS #20150233 filed 08/14/2015 with EPA. DOE was a cooperating agency, therefore recirculation of the document is not necessary under Section 1506.3(b) of the CEQ Regulations.

Amended Notices

EIS No. 20160085, Draft, USFWS, WY, Eagle Take Permits for the Chokecherry and Sierra Madre Phase I Wind Energy Project, Comment Period Ends: 07/29/2016, Contact: Louise Galiher 303-236-8677

Revision to FR Notice Published 04/29/2016; The U.S. Fish and Wildlife Service has reopened the comment period to end 07/29/2016

EIS No. 20160115, Draft, DOD, Other, Continental United States (CONUS) Interceptor Site, Comment Period Ends: 08/17/2016, Contact: Christopher Johnson 571-231-8212

Revision to FR Notice Published 06/03/2016; Extending Comment Period from 07/18/2016 to 08/17/2016

Dated: July 12, 2016.
Karin Leff,
Acting Director, NEPA Compliance Division, Office of Federal Activities.

[FR Doc. 2016-16800 Filed 7-14-16; 8:45 am]

BILLING CODE 6560-50-P